DEPARTMENT OF THE INTERIOR

Fish and Wildlife Service

[FWS-R6-ES-2013-N148; FXES11130600000D2-123-FF06E00000]

Endangered and Threatened Species; Permits

AGENCY: Fish and Wildlife Service, Interior.

ACTION: Notice of issuance of permits.

SUMMARY: We, the U.S. Fish and Wildlife Service, have issued the following permits to conduct certain activities with endangered species under the authority of the Endangered Species Act, as amended (Act).

FOR FURTHER INFORMATION CONTACT: Kathy Konishi, Permit Coordinator Ecological Services, (303) 236-4212 (phone); permitsR6ES@fws.gov (email).

SUPPLEMENTARY INFORMATION: We have issued the following permits in response to recovery permit applications we received under the authority of section 10 of the Act (16 U.S.C. 1531 et seq.). Each permit listed below was issued only after we determined that it was applied for in good faith, that granting the permit would not be to the disadvantage of the listed species, and that the terms and conditions of the permit were consistent with purposes and policy set forth in the Act.

Applicant name | Permit No. | Date issued | Date expired
ARIZONA GAME AND FISH DEPARTMENT | 163125 | 11/19/2012 | 12/31/2016
BROWN AND CALDWELL | 75311A | 6/5/2012 | 4/30/2017
BUREAU OF LAND MANAGEMENT | 121911 | 8/23/2012 | 12/31/2016
BUREAU OF LAND MANAGEMENT | 180540 | 1/2/2013 | 12/31/2017
BUREAU OF LAND MANAGEMENT | 057401 | 4/12/2013 | 12/31/2018
CEDAR CITY CORP. AND WILDLIFE SERVICES | 76106A | 8/22/2012 | 5/30/2017
CO DEPT OF TRANSPORTATION | 01741B | 4/8/2013 | 12/31/2018
COLORADO STATE UNIVERSITY | 76718A | 7/26/2012 | 5/30/2017
DENVER BOTANIC GARDENS, INC. | 106182 | 6/13/2013 | 3/31/2018
DENVER ZOOLOGICAL GARDENS | 064679 | 12/18/2012 | 12/31/2022
DUNMIRE CONSULTING | 94926A | 4/8/2013 | 12/31/2018
EDM INTERNATIONAL, INC. | 89157A | 12/5/2012 | 12/31/2017
HAYDEN-WING ASSOCIATES, LLC | 237961 | 3/27/2013 | 12/31/2016
INTERWEST WILDLIFE & ECOLOGICAL SERVICES, INC. | 054317 | 7/13/2012 | 4/30/2016
KANSAS STATE UNIVERSITY | 067729 | 7/6/2012 | 6/30/2016
LIVING PLANET AQUARIUM | 131638 | 4/24/2013 | 3/31/2018
MONTANA DEPARTMENT OF FISH, WILDLIFE AND PARKS | 047250 | 7/9/2012 | 9/30/2016
NATIONAL PARK SERVICE | 057485 | 7/26/2012 | 12/31/2016
NATIONAL PARK SERVICE | 191853 | 12/7/2012 | 12/31/2017
NATIONAL PARK SERVICE | 064680 | 3/4/2013 | 12/31/2017
NATIONAL PARK SERVICE | 067734 | 5/28/2013 | 3/31/2018
NATIONAL ZOO | 051828 | 7/6/2012 | 5/30/2016
NEBRASKA DEPARTMENT OF ROADS | 186282 | 1/15/2013 | 12/31/2017
NELSON CONSULTING | 220648 | 7/13/2012 | 12/31/2013
SOUTH DAKOTA DEPT OF ENVIRONMENT AND NATURAL RESOURCES | 98708A | 4/22/2013 | 3/31/2018
SOUTH DAKOTA GAME, FISH AND PARKS | 00670A | 7/13/2012 | 12/31/2014
STEGER, LAURA DEANNE | 96435A | 3/11/2013 | 12/31/2016
SWCA, INC. ENVIRONMENTAL CONSULTANTS | 047252 | 10/1/2012 | 9/30/2016
TOLEDO ZOOLOGICAL GARDENS | 052627 | 2/12/2013 | 9/30/2016
TRC ENVIRONMENTAL CORP. | 052582 | 8/22/2012 | 9/30/2016
TURNER ENDANGERED SPECIES FUND | 051139 | 11/16/2012 | 12/31/2016
UNIVERSITY OF KANSAS | 038527 | 6/4/2013 | 3/31/2018
UNIVERSITY OF NEBRASKA AT KEARNEY | 045150 | 9/17/2012 | 1/30/2016
UNIVERSITY OF NORTHERN COLORADO | 99605A | 4/17/2013 | 3/31/2018
US FISH AND WILDLIFE SERVICE | 704930 | 1/14/2013 | 12/31/2017
US FOREST SERVICE | 053737 | 6/5/2012 | 9/30/2016
US FOREST SERVICE | 054237 | 7/27/2012 | 9/30/2017
US FOREST SERVICE | 131639 | 1/31/2013 | 12/31/2018
US FOREST SERVICE, BRIDGER-TETON NATIONAL FOREST | 106387 | 6/6/2013 | 3/31/2018
US GEOLOGICAL SURVEY | 121914 | 7/30/2012 | 9/30/2016
US GEOLOGICAL SURVEY | 052284 | 11/30/2012 | 12/31/2012
US GEOLOGICAL SURVEY | 047282 | 3/14/2013 | 12/31/2017
VIRGINIA POLYTECHNIC INSTITUTE | 103272 | 2/25/2013 | 9/30/2018
WEBER STATE UNIVERSITY | 207948 | 3/4/2013 | 12/31/2017
WESTERN ECOSYSTEMS TECHNOLOGY, INC. | 050706 | 10/1/2012 | 12/31/2015
WESTERN WILDLIFE INSTITUTE | 056100 | 6/5/2012 | 4/30/2017
WHITE, JEREMY A, | 79842A | 4/12/2013 | 3/30/2017

Availability of Documents

Documents and other information submitted with these applications are available for review, subject to the requirements of the Privacy Act and Freedom of Information Act, by any party who submits a written requires for a copy of such documents to Kathy Konishi (see FOR FURTHER INFORMATION CONTACT).

Authority

We provide this notice under section 10 of the Act (16 U.S.C. 1531 et seq.)

Dated: July 9, 2013.
Nicole Alt,
Assistant Regional Director, Mountain-Prairie Region.

[FR Doc. 2013-17033 Filed 7-15-13; 8:45 am]

BILLING CODE 4310-55-P